DEPARTMENT OF LABOR

Employment and Training Administration

[TA-W-39,260]

Allegheny Ludlum Steel, Leechburg, PA; Amended Certification Regarding Eligibility To Apply for Worker Adjustment Assistance

In accordance with section 223 of the Trade Act of 1974 (19 U.S.C. 2273) the Department of Labor issued a Certification of Eligibility to Apply for Worker Adjustment Assistance on July 13, 2001, applicable to workers of Allegheny Ludlum Steel, Leechburg, Pennsylvania. The notice was published in the Federal Register on August 6, 2001 (FR 66 41053).

At the request of the State agency, the Department reviewed the certification for workers of the subject firm. The workers are engaged in employment related to the production of cold rolled grain oriented electrical steel.

New findings show that there was a previous certification, TA-W-34,929, issued on October 13, 1998, for workers of Allegheny Ludlum Steel, Leechburg, Pennsylvania who are engaged in employment related to the production of cold rolled grain oriented electrical steel. That certification expired October 13, 2000. To avoid an overlap in worker group coverage, this certification is being amended to change the impact date from April 26, 2000 to October 14, 2000, for workers of the subject firm.

The amended notice applicable to TA-W-39,260 is hereby issued as follows:

All workers of Allegheny Ludlum Steel, Leechburg, Pennsylvania who became totally or partially separated from employment on or after October 14, 2000, through July 13, 2003, are eligible to apply for adjustment assistance under Section 223 of the Trade Act of 1974.

Signed at Washington, DC this 4th day of September, 2001.
Edward A. Tomchick,
Director, Division of Trade Adjustment Assistance.

[FR Doc. 01-23527 Filed 9-20-01; 8:45 am]

BILLING CODE 4510-30-M